NUCLEAR REGULATORY COMMISSION

[Docket Nos. (as Shown in the Attachment); License Nos. (as Shown in the Attachment): EA-14-009; NRC-2015-0135]

In the Matter of All Power Reactor Licensees Owned and Operated by Entergy Nuclear Operations, Inc.; Entergy Operations, Inc.; and Entergy Nuclear Generation Company

AGENCY: Nuclear Regulatory Commission.

ACTION: Confirmatory order; issuance.

SUMMARY: The U.S. Nuclear Regulatory Commission (NRC) is issuing a confirmatory order to Entergy Operations, Inc. (Entergy), confirming an agreement reached in an Alternative Dispute Resolution mediation session held on September 22, 2014. As part of this agreement, Entergy will take actions to review and evaluate its security procedures; strengthen its procedures and set expectations regarding the conduct of security personnel; and conduct a presentation describing the event that formed the bases for the violation and the lessons learned, to its employees and the industry. Entergy is required to have an independent safety culture assessment conducted of the security organization at its River Bend Station. Entergy is also required to notify the NRC periodically of the status of its efforts.

DATES: The confirmatory order was issued on December 3, 2014.

ADDRESSES: Please refer to Docket ID NRC-2015-0135 when contacting the NRC about the availability of information regarding this document. You may obtain publicly-available information related to this action by the following methods:

• Federal Rulemaking Web site: Go to http://www.regulations.gov and search for Docket ID NRC-2015-0135. Address questions about NRC dockets to Carol Gallagher; telephone: 301-415-3463; email: Carol.Gallagher@nrc.gov. For questions about the Order, contact the individual listed in the FOR FURTHER INFORMATION CONTACT section of this document.

• NRC's Agencywide Documents Access and Management System (ADAMS): You may access publicly available documents online in the ADAMS Public Documents collection at http://www.nrc.gov/reading-rm/adams.html. To begin the search, select NRC: ADAMS Public Documents and then select “Begin Web-based ADAMS Search.” For problems with ADAMS, please contact the NRC's Public Document Room (PDR) reference staff at 1-800-397-4209, 301-415-4737, or by email to pdr.resource@nrc.gov. The ADAMS accession number for each document referenced (if that document is publicly available in ADAMS) is provided the first time that a document is referenced.

• NRC's PDR: You may examine and purchase copies of public documents at the NRC's PDR, Room O1-F21, One White Flint North, 11555 Rockville Pike, Rockville, Maryland 20852.

FOR FURTHER INFORMATION CONTACT: Christi Maier, Region IV, U.S. Nuclear Regulatory Commission, Washington DC 20555-001; 817-200-1217; or by email to Christi.Maier@nrc.gov.

SUPPLEMENTARY INFORMATION: The text of the Order is attached.

Dated this 3rd day of December 2014.
For The Nuclear Regulatory Commission.
Marc L. Dapas,
Regional Administrator.

Editorial Note: This document was received for publication by the Office of the Federal Register on August 7, 2015.

ATTACHMENT—CONFIRMATORY ORDER MODIFYING LICENSE

UNITED STATES OF AMERICA

NUCLEAR REGULATORY COMMISSION

In the Matter of All Power Reactor Licensees Owned and Operated by Entergy Nuclear Operations, Inc.; Entergy Operations, Inc. and Entergy Nuclear Generation Company [Docket Nos. (as shown in Attachment); License Nos. (as shown in Attachment)]

EA-14-009

Confirmatory Order Modifying License

I.

The licensees identified in Attachment 1 to this Order hold licenses issued by the U.S. Nuclear Regulatory Commission (NRC or Commission) pursuant to Title 10 of the Code of Federal Regulations (10 CFR) Part 50, “Domestic Licensing of Production and Utilization Facilities.” The licenses authorize the operation of the listed facilities in accordance with conditions specified therein.

This Confirmatory Order is the result of an agreement reached during an alternative dispute resolution (ADR) mediation session conducted on September 22, 2014, in Arlington, Texas.

II.

On March 21, 2012, the NRC initiated a special inspection to determine the circumstances surrounding a security event, which occurred on March 18, 2012, at Entergy Operations, Inc.'s (Entergy or Licensee), River Bend Station (RBS or facility). In addition, on March 21, 2012, the NRC's Office of Investigations (OI), Region IV Field Office, initiated an investigation at RBS to determine if Entergy employees willfully violated NRC security requirements at RBS. The investigation was completed on December 31, 2013, and was documented in OI Report 4-2012-022. Based on the evidence developed during the investigation, OI's Region IV Field Office concluded that the willful actions of an unidentified individual caused Entergy to be in violation of 10 CFR part 73, “Physical Protection of Plants and Materials.”

While the NRC investigation did not identify the individual responsible for the security-related violation, the OI Region IV Field Office did establish several facts that are germane to the conclusion of the investigation. Details of the security event and the subsequent inspection and investigation are described in Attachment 2 to this Order. Attachment 2 includes Security-Related Information (SRI); therefore, it is not publicly available.

The NRC determined that as the result of the willful actions of an unidentified individual, Entergy failed to comply with 10 CFR part 73. The NRC described the results of the inspection and investigation in a letter to Entergy dated July 16, 2014. In response to the NRC's letter, Entergy requested ADR to resolve this matter. This confirmatory order is issued pursuant to the agreement reached during the ADR process.

III.

On September 22, 2014, the NRC and Entergy met in an ADR session mediated by a professional mediator, arranged through the Cornell University Scheinman Institute on Conflict Resolution. ADR is a process in which a neutral mediator, with no decision-making authority, assists the parties in reaching an agreement on resolving any differences regarding the dispute. During the ADR session, a preliminary settlement agreement was reached. The elements of that preliminary agreement, with the exception of the section that includes SRI, are described below. The portions of the agreement that contain SRI, as well as the sections of this Confirmatory Order that address SRI, are described in the aforementioned non-public Attachment. The following description of the preliminary ADR agreement, and the required actions described in Section V of this Confirmatory Order, include references to the non-public Attachment to allow for public release of this Confirmatory Order. The publicly available elements of the agreement consist of the following:

The NRC recognizes the corrective actions that Entergy has already implemented associated with the apparent violation and preliminary finding. Entergy's corrective actions are described in the non-public Attachment.

A. The NRC and Entergy agree that a willful violation of Title 10 Code of Federal Regulations (10 CFR) Part 73 occurred on March 18, 2012, at River Bend Station. However, the NRC and Entergy disagree on the specific aspects of that willful characterization of the violation. The details regarding these aspects are described in the non-public Attachment.

1. The NRC concluded that the security-related violation occurred because of the deliberate misconduct of an unidentified security officer at River Bend Station.

2. Entergy does not believe that willful intent was involved in all aspects of the violation.

B. Within 4 months from the date of this Confirmatory Order, Entergy will revise its security procedures.

C. Within 3 months from the date of this Confirmatory Order, Entergy will, at each of its nuclear plants, conduct a review of its controls for SRI and communicate to the NRC the results of the review. Within 6 months from the date of this Confirmatory Order, Entergy will establish new controls and will provide its proposed controls to the NRC for its review. The NRC will communicate to Entergy any concerns regarding the controls within 60 days of submittal for resolution in a manner acceptable to both parties. Entergy will implement the controls within 15 months from the date of this Confirmatory Order. The details regarding these controls are described in the non-public Attachment.

D. Within 9 months from the date of this Confirmatory Order, Entergy will review and evaluate the location and storage of SRI at each of its nuclear plants. The details are described in the non-public Attachment.

E. Entergy will develop a “commitment to compliance” statement or a similar document highlighting the special responsibilities of nuclear security personnel. This document will explain that nuclear security personnel need to comply with regulations and procedures, and it will describe the potential consequences if compliance does not occur. Within 12 months from the date of this Confirmatory Order, Entergy will require at each of its nuclear plants that nuclear security personnel read and sign the statement (subject to any collective bargaining obligations it may have). Entergy will include the reading and signing of this statement in the initial qualification process of nuclear security personnel. The details are described in the non-public Attachment.

F. Within 6 months from the date of this Confirmatory Order, Entergy will identify those security posts in each of its nuclear plants that should be subject to certain decorum standards that will ensure a professional environment in those areas. Once identified, Entergy will establish decorum protocols for those security posts. In addition, within 6 months of the date of this Confirmatory Order, Entergy will provide its proposed decorum protocols to the NRC for its review. The NRC will communicate to Entergy any concerns regarding the proposed decorum protocols within 60 days of submittal for resolution in a manner acceptable to both parties. Entergy will implement the decorum protocols within 12 months from the date of this Confirmatory Order.

G. Within 4 months from the date of this Confirmatory Order, Entergy will prepare a “lessons learned” presentation to be delivered to Entergy nuclear employees at each of its nuclear plants describing the event that formed the basis for this violation. Prior to making the presentation, Entergy will provide its proposed presentation to the NRC for its review. The NRC will communicate to Entergy any concerns regarding the presentation within 30 days of submittal. Entergy will deliver the presentation to Entergy nuclear employees within 12 months of this Confirmatory Order.

H. Within 4 months from the date of this Confirmatory Order, Entergy will prepare a presentation describing the event that formed the basis for this violation. The presentation will be delivered to the Nuclear Security Working Group and the National Nuclear Security Conference (subject to acceptance of the conference-organizing committees). This presentation will include, among other subjects, the subjects covered in the non-public Attachment to this Confirmatory Order. Prior to making the presentation, Entergy will provide its proposed presentation to the NRC for its review. The NRC will communicate to Entergy any concerns regarding the presentation within 30 days of submittal. Entergy will deliver the presentation within 12 months of this Confirmatory Order.

I. Within 6 months from the date of this Confirmatory Order, Entergy will ensure that an independent third party conducts a safety culture assessment of the Security organization at River Bend Station. The results will be incorporated into Entergy's corrective action program as appropriate. A copy of the completed assessment will be made available for NRC review.

J. Within 4 months from the date of this Confirmatory Order, Entergy will prepare refresher training on the provisions of 10 CFR 50.5 and 50.9 for Entergy employees at each of its nuclear plants. Prior to conducting the training, Entergy will provide its proposed refresher training plan to the NRC for its review. The NRC will communicate to Entergy any concerns regarding the plan within 30 days of submittal for resolution in a manner acceptable to both parties. Entergy will complete administration of this refresher training within 12 months of this Confirmatory Order.

K. Notification to the NRC When Actions Are Completed

1. Unless otherwise specified, Entergy will submit written notification to the Director, Division of Reactor Safety, USNRC Region IV, 1600 East Lamar Blvd., Arlington, Texas 76011-4511, at intervals not to exceed 6 months, 1 year, and annually thereafter until the terms of the Confirmatory Order are completed, providing a status of each item in the Order.

2. Entergy will provide its basis for concluding that the terms of the Confirmatory Order have been satisfied, to the NRC, in writing

L. Inspection Follow-up

Based on the corrective actions and enhancements described above, the NRC will conduct follow-up inspections using NRC Inspection Procedure 92702, “Followup on Corrective Actions for Violations and Deviations.”

M. Administrative Items

1. The NRC and Entergy Operations, Inc., agree that the above elements will be incorporated into this Confirmatory Order and that the NRC will consider the order an escalated enforcement action.

2. The NRC and Entergy agree that the issues described in the NRC's Inspection Report and Investigation Report to Entergy Operations, Inc., of July 16, 2014 (EA-14-009) resulted in a violation of NRC security requirements. The details regarding the violation are described in the non-public Attachment.

3. In consideration of the significant corrective actions Entergy has already taken and the additional actions Entergy has committed to taking to enhance its security program, the NRC agrees to reduce the severity level of the escalated enforcement sanction. The NRC agrees to issue a Notice of Violation for a security-related violation and impose a $70,000 civil penalty for the matter discussed in the NRC's Inspection Report and Investigation Report to Entergy Operations, Inc., of July 16, 2014 (EA-14-009). The issuance of the Notice of Violation and civil penalty is considered escalated enforcement. The NRC communicates, in the non-public Attachment, the basis for its original conclusion regarding the characterization of the violation.

4. This agreement is binding upon successors and assigns of Entergy Operations, Inc.

N. Within thirty days of the date of the Confirmatory Order, Entergy shall pay a civil penalty of $70,000.

O. Entergy agrees that this Confirmatory Order is to be effective upon issuance and waives its right to a hearing in connection with this Order.

P. If Entergy fulfills its commitments under this Order, the NRC will not take further enforcement action based on the violations of NRC requirements described in Enclosure 2 of the letter transmitting this Order.

On November 21, 2014, Entergy consented to issuing this Confirmatory Order with the commitments, as described in Section V below.

IV.

Since the Licensee has agreed to take additional actions to address NRC concerns, as set forth in Section III above, the NRC has concluded that its concerns can be resolved through issuance of this Confirmatory Order.

I find that Entergy's commitments as set forth in Section V are acceptable and necessary and conclude that with these commitments public health and safety are reasonably assured. In view of the foregoing, I have determined that public health and safety require that Entergy's commitments be confirmed by this Confirmatory Order. Based on the above and Entergy's consent, this Confirmatory Order is effective 30 days after its issuance.

V.

Accordingly, pursuant to Sections 104b, 161b, 161i, 161o, 182 and 186 of the Atomic Energy Act of 1954, as amended, and the Commission's regulations in 10 CFR 2.202 and 10 CFR parts 50 and 73, IT IS HEREBY ORDERED THAT THE ACTIONS DESCRIBED BELOW WILL BE TAKEN AT RIVER BEND STATION AND OTHER NUCLEAR POWER PLANTS IN ENTERGY'S FLEET AND THAT REACTOR OPERATING LICENSE NO. NPF-47 IS MODIFIED AS FOLLOWS WITH RESPECT TO THE ACTIONS TO BE TAKEN AT THE RIVER BEND STATION:

A. The NRC and Entergy agree that a willful violation of Title 10 Code of Federal Regulations (10 CFR) Part 73 occurred on March 18, 2012, at River Bend Station. However, the NRC and Entergy disagree on the specific aspects of that willful characterization of the violation. The details regarding these aspects are described in the non-public Attachment.

1. The NRC concluded that the security-related violation occurred because of the deliberate misconduct of an unidentified security officer at River Bend Station.

2. However, Entergy does not believe that willful intent was involved in all aspects of the violation.

B. Within 4 months from the date of this Confirmatory Order, Entergy will revise its security procedures.

C. Within 3 months from the date of this Confirmatory Order, Entergy will, at each of its nuclear plants, conduct a review of its controls for SRI and communicate to the NRC the results of the review. Within 6 months from the date of this Confirmatory Order, Entergy will establish new controls and will provide its proposed controls to the NRC for its review. The NRC will communicate to Entergy any concerns regarding the controls within 60 days of submittal for resolution in a manner acceptable to both parties. Entergy will implement the controls within 15 months from the date of this Confirmatory Order. The details regarding these controls are described in the non-public Attachment.

D. Within 9 months from the date of this Confirmatory Order, Entergy will review and evaluate the location and storage of SRI at each of its nuclear plants. The details are described in the non-public Attachment.

E. Entergy will develop a “commitment to compliance” statement or a similar document highlighting the special responsibilities of nuclear security personnel. This document will explain that nuclear security personnel need to comply with regulations and procedures, and it will describe the potential consequences if compliance does not occur. Within 12 months from the date of this Confirmatory Order, Entergy will require at each of its nuclear plants that nuclear security personnel read and sign the statement (subject to any collective bargaining obligations it may have). Entergy will include the reading and signing of this statement in the initial qualification process of nuclear security personnel. The details are described in the non-public Attachment.

F. Within 6 months from the date of this Confirmatory Order, Entergy will identify those security posts in each of its nuclear plants that should be subject to certain decorum standards that will ensure a professional environment in those areas. Once identified, Entergy will establish decorum protocols for those security posts. In addition, within 6 months of the date of this Confirmatory Order, Entergy will provide its proposed decorum protocols to the NRC for its review. The NRC will communicate to Entergy any concerns regarding the proposed decorum protocols within 60 days of submittal for resolution in a manner acceptable to both parties. Entergy will implement the decorum protocols within 12 months from the date of this Confirmatory Order.

G. Within 4 months from the date of this Confirmatory Order, Entergy will prepare a “lessons learned” presentation to be delivered to Entergy nuclear employees at each of its nuclear plants describing the event that formed the basis for this violation. Prior to making the presentation, Entergy will provide its proposed presentation to the NRC for its review. The NRC will communicate to Entergy any concerns regarding the presentation within 30 days of submittal. Entergy will deliver the presentation to Entergy nuclear employees within 12 months of this Confirmatory Order.

H. Within 4 months from the date of this Confirmatory Order, Entergy will prepare a presentation describing the event that formed the basis for this violation. The presentation will be delivered to the Nuclear Security Working Group and the National Nuclear Security Conference (subject to acceptance of the conference-organizing committees). This presentation will include, among other subjects, the subjects covered by the non-public Attachment to this Confirmatory Order. Prior to making the presentation, Entergy will provide its proposed presentation to the NRC for its review. The NRC will communicate to Entergy any concerns regarding the presentation within 30 days of submittal. Entergy will deliver the presentation within 12 months of this Confirmatory Order.

I. Within 6 months from the date of this Confirmatory Order, Entergy will ensure that an independent, third party conducts a safety culture assessment of the Security organization at River Bend Station. The results will be incorporated into Entergy's corrective action program as appropriate. A copy of the completed assessment will be made available for NRC review.

J. Within 4 months from the date of this Confirmatory Order, Entergy will prepare refresher training on the provisions of 10 CFR 50.5 and 50.9 for Entergy employees at each of its nuclear plants. Prior to conducting the training, Entergy will provide its proposed refresher training plan to the NRC for its review. The NRC will communicate to Entergy any concerns regarding the plan within 30 days of submittal for resolution in a manner acceptable to both parties. Entergy will complete administration of this refresher training within 12 months of this Confirmatory Order.

K. Notification to the NRC When Actions Are Completed

1. Unless otherwise specified, Entergy will submit written notification to the Director, Division of Reactor Safety, USNRC Region IV, 1600 East Lamar Blvd., Arlington, Texas 76011-4511, at intervals not to exceed 6 months, 1 year, and annually thereafter until the terms of the Confirmatory Order are completed, providing a status of each item in the Order.

2. Entergy will provide its basis for concluding that the terms of the Confirmatory Order have been satisfied, to the NRC, in writing

L. Inspection Follow-up

Based on the corrective actions and enhancements described above, the NRC will conduct follow-up inspections using NRC Inspection Procedure 92702, “Followup on Corrective Actions for Violations and Deviations.”

M. Administrative Items

1. The NRC and Entergy Operations, Inc., agree that the above elements will be incorporated into this Confirmatory Order and that the NRC will consider the order an escalated enforcement action.

2. The NRC and Entergy agree that the issues in the NRC's Inspection Report and Investigation Report (EA-14-009) described in a July 16, 2014, letter to Entergy Operations, Inc., resulted in a violation of NRC security requirements. The details regarding the violation are described in the non-public Attachment.

3. In consideration of the significant corrective actions Entergy has already taken and the additional actions Entergy has committed to taking to enhance its security program, the NRC agrees to reduce the severity level of the escalated enforcement sanction. The NRC agrees to issue a Notice of Violation for a security-related violation and impose a $70,000 civil penalty for the matter discussed in the July 16, 2014, letter to Entergy Operations, Inc., regarding the NRC's Inspection Report and Investigation Report (EA-14-009). The issuance of the Notice of Violation and civil penalty is considered escalated enforcement. The NRC communicates, in the non-public Attachment, the basis for its original conclusion regarding the characterization of the violation.

4. This agreement is binding upon successors and assigns of Entergy Operations, Inc.

N. Within 30 days of the date of the Confirmatory Order, Entergy shall pay a civil penalty of $70,000.

O. Entergy agrees that this Confirmatory Order is to be effective upon issuance and waives its right to a hearing in connection with this Order

P. If Entergy fulfills its commitments under this Order, the NRC will not take further enforcement action based on the violations of NRC requirements described in Enclosure 2 of the letter transmitting this Order.

The Regional Administrator, Region IV, may, in writing, relax or rescind any of the above conditions upon demonstration by Entergy of good cause.

VI.

Any person adversely affected by this Confirmatory Order, other than Entergy, may request a hearing within 30 days of its publication in the Federal Register. Where good cause is shown, consideration will be given to extending the time to request a hearing. A request for extension of time must be made in writing to the Director, Office of Enforcement, U.S. Nuclear Regulatory Commission, Washington, DC 20555, and include a statement of good cause for the extension.

This Order and its Attachments contain information up to the Security-Related Information designation, as defined in 10 CFR 73.2, and its disclosure to unauthorized individuals is prohibited by 10 CFR 73.21 and 10 CFR 73.22. Therefore, any redacted material will not be made available for public inspection in the NRC Public Document Room or electronically in the NRC's Agencywide Documents Access and Management System. Any person requesting to obtain a copy of this order or portions thereof will be required to demonstrate their trust and reliability through a Federal Bureau of Investigation background check and criminal history check, as well as demonstrate a “need to know” such information.

If a person other than the licensee requests a hearing, that person shall set forth with particularity the manner in which his interest is adversely affected by this Confirmatory Order and shall address the criteria set forth in 10 CFR 2.309(d) and (f).

If a hearing is requested by a person whose interest is adversely affected, the Commission will issue an order designating the time and place of any hearing. If a hearing is held, the issue to be considered at such hearing shall be whether this Confirmatory Order should be sustained.

In the absence of any request for hearing, or written approval of an extension of time in which to request a hearing, the provisions specified in Section V above shall be effective and final thirty days after issuance of this Confirmatory Order without further order or proceedings. If an extension of time for requesting a hearing has been approved, the provisions specified in Section V shall be final when the extension expires if a hearing request has not been received.

A REQUEST FOR HEARING SHALL NOT STAY THE EFFECTIVENESS OF THIS ORDER.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007), as amended by 77 FR 46562; August 3, 2012 (codified in pertinent part at 10 CFR part 2, subpart C). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange (EIE), users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene through the EIE. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, any others who wish to participate in the proceeding (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

For The Nuclear Regulatory Commission
Dated this 3rd day of December 2014.
Marc L. Dapas,
Regional Administrator.

Attachments: as stated

Attachment 1

All Power Reactor Licensees Owned and Operated By Entergy Nuclear Operations, Inc.; Entergy Operations, Inc.; and Entergy Nuclear Generation Company

Arkansas Nuclear One, Units 1 and 2

Entergy Operations, Inc.

Docket Nos. 50-313, 50-368

License Nos. DRP-51; NPF-6

Mr. Jeremy Browning, Site Vice President

Arkansas Nuclear One

Entergy Operations, Inc.

1448 SR 333

Russellville, AR 72802-0967

Grand Gulf Nuclear Station

Entergy Operations, Inc.

Docket No. 50-416

License No. NPF-29

Mr. Kevin J. Mulligan, Site Vice President

Entergy Operations, Inc.

Grand Gulf Nuclear Station

P.O. Box 756

Port Gibson, MS 39150

Indian Point Nuclear Generating Unit Nos. 2 and 3

Entergy Nuclear Operations, Inc.

Docket Nos. 50-247 and 50-286

License Nos. DPR-26 and DPR-64

John Ventosa, Vice President, Operations

Entergy Nuclear Operations, Inc.

Indian Point Energy Center

450 Broadway, GSB

P.O. Box 249

Buchanan, NY 10511-0249

James A. FitzPatrick Nuclear Power Plant

Entergy Nuclear Operations, Inc.

Docket No. 50-333

License No. DPR-59

Lawrence Coyle, Executive Vice President

Entergy Nuclear Operations, Inc.

James A. FitzPatrick Nuclear Power Plant

P.O. Box 110

Lycoming, NY 13093

Palisades Nuclear Plant

Entergy Nuclear Operations, Inc.

Docket No. 50-255

License No. DPR-20

Anthony J. Vitale, Site Vice President

Entergy Nuclear Operations, Inc.

Palisades Nuclear Plant

27780 Blue Star Memorial Highway

Covert, MI 49043

Pilgrim Nuclear Power Station

Entergy Nuclear Generation Company

Docket No. 50-293

License No. DPR-35

John Dent, Jr., Vice President—Site Vice President

Entergy Nuclear Operations

Pilgrim Nuclear Power Station

600 Rocky Hill Road

Plymouth, MA 02360-5508

River Bend Station

Entergy Operations, Inc.

Docket No. 50-458

License No. NPF-47

Mr. Eric W. Olson, Site Vice President

Entergy Operations, Inc.

River Bend Station

5485 US Highway 61N

St. Francisville, LA 70775

Vermont Yankee Nuclear Power Station

Entergy Nuclear Operations, Inc.

Docket No. 50-271

License No. DPR-28

Christopher J. Wamser, Site Vice President

Entergy Nuclear Operations, Inc.

Vermont Yankee Nuclear Power Station

320 Governor Hunt Road

Vernon, VT 05354

Waterford Steam Electric Station, Unit 3

Entergy Operations, Inc.

Docket No. 50-382

License No. NPF-38

Mr. Michael R. Chisum, Site Vice President

Entergy Operations, Inc.

Waterford Steam Electric Station

17265 River Road

Killona, LA 70057-0751

Attachment 2—Redacted

Editorial Note: This document was received for publication by the Office of the Federal Register on August 7, 2015.

[FR Doc. 2015-19853 Filed 8-11-15; 8:45 am]

BILLING CODE 7590-01-P